DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, D.C. 20230. Applications may be examined between 8:30 A.M. and 5:00 P.M. in Suite 4100W, U.S. Department of Commerce, Franklin Court Building, 1099 14th Street, NW, Washington, DC. Docket Number: 05-047. Applicant: Dartmouth College, Thayer School of Engineering, HB 8000 Dartmouth College, Hanover, NH 03755-8000. Instrument: Nano Magneto-optic Kerr Effect Microscope. Manufacturer: Durham Magneto Optics, Ltd., UK. Intended Use: The instrument is intended to be used to study the Kerr effect which is the rotation of the polarization of light under the influence of time-varying magnetic fields in three axes. Transverse, longitudinal, and polar Kerr effects will be measured as well as time-varying combinations of these. Thin layers of several magnetic alloys inside of dielectric structures will be deposited to enhance the effect of the magnetic field to measure magnetic properties of weakly magnetic materials, and to maximize the polarization rotation of Kerr-effect materials. Application accepted by Commissioner of Customs: October 28, 2005.

Docket Number: 05-048. Applicant: Purdue University, 401 South Grant Street, West Lafayette, IN 47907. Instrument: Electron Microscope, Model Nova 200 NanoLab. Manufacturer: FEI Company, The Netherlands. Intended Use: The instrument is intended to be used for instruction in the following courses:

(1) Microstructural Characterization Techniques

(2) Introduction to Scanning Electron Microscopy

(3) Introduction to Transmission Electron Microscopy

(4) Transmission Electron Microscopy and Crystal Imperfections.

It will also be used in individualized instruction for MS and PhD Theses. Application accepted by Commissioner of Customs: November 10, 2005.

Docket Number: 05-049. Applicant: Purdue University, 401 South Grant Street, West Lafayette, IN 47907. Instrument: Electron Microscope, Model Technai G2 F30 S-TWIN. Manufacturer: FEI Company, The Netherlands. Intended Use: The instrument is intended to be used for instruction in the following courses:

(1) Microstructural Characterization Techniques

(2) Introduction to Scanning Electron Microscopy

(3) Introduction to Transmission Electron Microscopy

(4) Transmission Electron Microscopy and Crystal Imperfections.

It will also be used in individualized instruction for MS and PhD Theses. Application accepted by Commissioner of Customs: November 10, 2005.

Docket Number: 05-050. Applicant: The Ohio State University, Materials Science and Engineering, 2041 College Road, Columbus, OH 43210. Instrument: Electron Microscope, Model Titan F30 S-TWIN. Manufacturer: FEI Company, The Netherlands. Intended Use: The instrument is intended to be used in a multi-disciplinary central instrumentation facility and will be used to study many different types of solid state materials. It will be used for general morphological and structural studies of ceramics and metals, including high-temperature superconductors, high-temperature metal alloys, evaporated metal films, silicon-germanium quantum dots, soils and geological materials, polymers and possibly some biological samples. It will be used measure the morphology and orientation of grains and particles, as well as the structure, long and short range ordering, number and type of defects and the elemental composition of various phases in the materials. Application accepted by Commissioner of Customs: November 16, 2005.

Docket Number: 05-051. Applicant: The Rockefeller University, 1230 York Avenue, New York, NY 10021. Instrument: Electron Microscope, Model Technai G2 12 Bio Twin. Manufacturer: FEI Company, The Netherlands. Intended Use: The instrument is intended to be used in a central facility that is available for use by all researchers at the University. The center provides highly specialized state-of-the-art equipment for both optical and electron microscopy, as well as training in its use. The staff are available to provide experimental assistance and advice. About 65 of 75 of the laboratories will be used by a wide variety of researchers working on a broad range of experimental systems, from viruses and bacteria to sections of brain tissue. The new very high resolution microscope for cell biology will allow visualization of a single cell or bacterium filling an 8 x 11 page. Application accepted by Commissioner of Customs: November 18, 2005.

Gerald A. Zerdy,
Program Manager, Statutory Import Programs Staff.

[FR Doc. E5-6909 Filed 12-5-05; 8:45 am]

BILLING CODE 3510-DS-S